DEPARTMENT OF AGRICULTURE

Animal and Plant Health Inspection Service

9 CFR Part 79

[Docket No. APHIS-2007-0127]

RIN 0579-AC92

Scrapie in Sheep and Goats; Correction

AGENCY: Animal and Plant Health Inspection Service, USDA.

ACTION: Correcting amendment.

SUMMARY: In a final rule that was published in the Federal Register on March 25, 2019, and effective on April 24, 2019, we amended the regulations by changing the requirements for records needed to trace animals and by adding provisions to link official individual animal identification applied by persons other than the flock owner to the flock of origin in the National Scrapie Database rather than just the person who applied the official identification. This document corrects an error in that final rule.

DATES: Effective June 18, 2019.

FOR FURTHER INFORMATION CONTACT: Dr. Diane Sutton, National Scrapie Program Coordinator, Sheep, Goat, Cervid & Equine Health Center, Strategy and Policy, VS, APHIS, 4700 River Road, Unit 43, Riverdale, MD 20737-1235; (301) 851-3509.

SUPPLEMENTARY INFORMATION: On March 25, 2019, we published in the Federal Register (84 FR 11170-11196, Docket No. APHIS-2007-0127) a final rule that amended the regulations in parts 54 and 79 by changing the requirements for records needed to trace animals, and by adding provisions to link official individual animal identification applied by persons other than the flock owner to the flock of origin in the National Scrapie Database rather than just the person who applied the official identification. As part of this change, we added some paragraphs to § 79.6(a) and redesignated others. Specifically, § 79.6(a)(10)(i) was redesignated as § 79.6(a)(12). However, in § 79.2(a)(1), footnote 4 refers to the identification requirements in § 79.6(a)(10)(i), and we did not update the reference in the footnote to reflect that change. This document corrects that error.

List of Subjects in 9 CFR Part 79

Animal disease, Goats, Quarantine, Reporting and recordkeeping requirements, Sheep, Transportation.

Accordingly, we are amending 9 CFR part 79 as follows:

PART 79—SCRAPIE IN SHEEP AND GOATS

1. The authority citation in part 79 continues to read as follows:

Authority: 7 U.S.C. 8301-8317; 7 CFR 2.22, 2.80, and 371.4.

§ 79.2 [Amended]

2. In § 79.2, footnote 4 is amended by removing the citation “§ 79.6(a)(10)(i)” adding the citation “§ 79.6(a)(12)” in its place.

Done in Washington, DC, this 13th day of June 2019.
Kevin Shea,
Administrator, Animal and Plant Health Inspection Service.

[FR Doc. 2019-12820 Filed 6-17-19; 8:45 am]

BILLING CODE 3410-34-P